DEPARTMENT OF HEALTH AND HUMAN SERVICES

Centers for Medicare & Medicaid Services

[Document Identifier: CMS-10333, CMS-10384 and CMS-10371]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Extension of a currently approved collection; Title of Information Collection: Consumer Assistance Program Grants; Use: Section 1002 of the Affordable Care Act provides for the establishment of consumer assistance (or ombudsman) programs, starting in FY 2010. Federal grants will support these programs. For FY 2010, $30 million is appropriated. These programs will assist consumers with filing complaints and appeals, assist consumers with enrollment into health coverage, collect data on consumer inquiries and complaints to identify problems in the marketplace, educate consumers on their rights and responsibilities, and starting in 2014, resolve problems with premium credits for Exchange coverage. Importantly, these programs must provide detailed reporting on the types of problems and questions consumers may experience with health coverage, and how these are resolved. In order to strengthen oversight, the law requires programs to report data to the Secretary of the Department of Health and Human Services (HHS) “As a condition of receiving a grant under subsection (a), an office of health insurance consumer assistance or ombudsman program shall be required to collect and report data to the Secretary on the types of problems and inquiries encountered by consumers” (Sec. 2793 (d)). Form Number: CMS-10333 (OMB-0938-1097); Frequency: Quarterly; Affected Public: Private Sector: State, Local, or Tribal Governments; Number of Respondents: 40; Number of Responses: 200; Total Annual Hours: 4,800. (For policy questions regarding this collection, contact Eliza Bangit at (301) 492-4219. For all other issues call (410) 786-1326.)

2. Type of Information Collection Request: New Collection; Title of Information Collection: Health Insurance Assistance Database; Use: In October 2010, the Office of Consumer Support began to take and respond to direct consumer inquiries related to the Affordable Care Act. As of February 15th 2011, CCIIO has received 906 consumer inquiries. Consumer inquiries continue to come in to CCIIO at a rate of 30 to 35 inquiries per week. Starting in January 2011, the HHS Hotline will begin to refer ACA calls to CCIIO. To date, the HHS Hotline receives, on average, 400 calls per month pertaining to ACA.

Accordingly, a system to collect, track and store consumer information is urgently needed in order to accomplish successful case management to ensure that the information, coverage, and health care needs of consumers are addressed fairly and in a timely fashion. Further, the Team will provide detailed reports on these consumer inquiries with a focus on Affordable Care Act and PHS Act compliance issues. These reports will assist the Office of Oversight in identifying areas where compliance concerns may arise. Reports will be stripped of any information in identifiable form (IIF) and personal health information when written and prepared. Authority for maintenance, collection and disclosures of this information is given under sections 2719, 2723, and 2761 of the Public Health Service Act (PHS Act) and section 1321(c) of the Affordable Care Act.

Analysis of this data reporting will help identity patterns of practice in the insurance marketplaces and uncover suspected patterns of noncompliance. HHS may share program data reports with the Departments of Labor and Treasury, and State regulators. Program data also can offer CCIIO one indication of the effectiveness of State enforcement, affording opportunities to provide technical assistance and support to State insurance regulators and, in extreme cases, inform the need to trigger Federal enforcement. Form Number: CMS-10384 (OCN: 0938-New); Frequency: Occasionally; Affected Public: Individuals or households; Number of Respondents: 1,200; Number of Responses: 1,860; Total Annual Hours: 195 (For policy questions regarding this collection, contact Paul Tibbits (301) 492-4229. For all other issues call (410) 786-1326.)

3. Type of Information Collection Request: Revision of a currently approved collection; Title of Information Collection: Cooperative Agreement to Support Establishment of State-Operated Health Insurance Exchanges; Use: All States and Territories (including the 50 States, consortia of States, and the District of Columbia, herein referred to as States) that received a State Planning and Establishment Grant for Affordable Care Act's Exchanges are eligible for the Cooperative Agreement to Support Establishment of State Operated Insurance Exchanges. The State of Alaska did not apply for either the original Planning grant made available in September 2010, or the second Planning grant made available in January 2011 exclusively to States that did not apply for the first. The Commonwealth of the Northern Mariana Islands did not apply for the Territory Cooperative Agreements for the Affordable Care Act's Exchanges made available in January 2011. Because Alaska and the Northern Mariana Islands did not receive funding under Section 1311 for planning and establishment of an Exchange within one year of the enactment of the Affordable Care Act, by Statute, they will not be eligible for Section 1311 Exchange planning and establishment money in the future. Section 1311(b) of the Affordable Care Act provides the opportunity for each State to establish an Exchange no later than January 1, 2014. Section 1311 of the Affordable Care Act provides for grants to States for the planning and establishment of these Exchanges. Given the innovative nature of Exchanges and the statutorily-prescribed relationship between the Secretary and States in their development and operation, it is critical that the Secretary work closely with States to provide necessary guidance and technical assistance to ensure that States can meet the prescribed timelines, Federal requirements, and goals of the statute.

In order to provide appropriate and timely guidance and technical assistance, the Secretary must have access to timely, periodic information regarding State progress. Consequently, the information collection associated with these grants is essential to facilitating reasonable and appropriate Federal monitoring of funds, providing statutorily-mandated assistance to States to implement Exchanges in accordance with Federal requirements, and to ensure that States have all necessary information required to proceed, such that retrospective corrective action can be minimized.

There are two levels of awards for States to apply for the Establishment grants. Each level is based on grantee readiness. Level One Establishment grants are open to States that received Federal funding for Exchange Planning activities and awardees of the Cooperative Agreements to Support Innovative Exchange Information Technology Systems. Level One Establishment cooperative agreements provide one year of funding to States that are ready to initiate establishment activities having made progress under their Exchange Planning grant. Level Two Establishment cooperative agreements are open to States that received Federal funding for Exchange Planning activities and awardees of the Cooperative Agreements to Support Innovative Exchange Information Technology Systems. Level Two Establishment grants are designed to provide funding to applicants who have made significant progress in meeting specific benchmarks in the Exchange establishment process. Level One Establishment grantees may apply for additional funding under Level Two Establishment grants once they have achieved the benchmarks identified in the Level Two Establishment review criteria. The Period of Performance for Level One Establishment grants is one year after date of award. The Period of Performance for Level Two Establishment grants is through December 31, 2014. This funding opportunity was released to forty-nine States and the District of Columbia on January 20, 2011. HHS anticipates making this funding opportunity available to four Territories on August 31, 2011. Form Number: CMS-10371 (OCN: 0938-1119); Frequency: Annually. Affected Public: State, Local, or Tribal Governments. Number of Respondents: 54. Number of Responses: 756, Total Annual Hours: 57,564. (For policy questions regarding this collection contact Leslie Shah at 301-492-4452. For all other issues call 410-786-1326.)

To obtain copies of the supporting statement and any related forms for the proposed paperwork collections referenced above, access CMS Web Site address at http://www.cms.hhs.gov/PaperworkReductionActof1995, or E-mail your request, including your address, phone number, OMB number, and CMS document identifier, to Paperwork@cms.hhs.gov, or call the Reports Clearance Office on (410) 786-1326.

To be assured consideration, comments and recommendations for the proposed information collections must be received by the OMB desk officer at the address below, no later than 5 p.m. on August 29, 2011.

OMB, Office of Information and Regulatory Affairs, Attention: CMS Desk Officer, Fax Number: (202) 395-6974, E-mail: OIRA_submission@omb.eop.gov.

Dated: July 26, 2011.
Martique Jones,
Director, Regulations Development Group, Division B, Office of Strategic Operations and Regulatory Affairs.

[FR Doc. 2011-19260 Filed 7-28-11; 8:45 am]

BILLING CODE 4120-01-P